DEPARTMENT OF ENERGY

Federal Energy Regulatory Commission

Combined Notice of Filings #1

August 18, 2010.

Take notice that the Commission received the following exempt wholesale generator filings:

Docket Numbers: EG10-58-000.

Applicants: Constellation Mystic Power, LLC.

Description: Self-Certification of EWG Status of Constellation Mystic Power, LLC.

Filed Date: 08/18/2010.

Accession Number: 20100818-5089.

Comment Date: 5 p.m. Eastern Time on Wednesday, September 8, 2010.

Take notice that the Commission received the following electric rate filings:

Docket Numbers: ER07-903-006; ER99-2781-015; ER98-4138-013; ER08-1336-004; ER05-1054-007; ER04-472-013; ER00-1770-023; ER98-3096-019; ER96-1361-017.

Applicants: Bethlehem Renewable Energy, LLC; Delmarva Power & Light Company; Potomac Electric Power Company; Energy Systems North East LLC; Eastern Landfill Gas, LLC; Fauquier Landfill Gas, LLC; Potomac Power Resources, Inc.; Conectiv Energy Supply, Inc.; Pepco Energy Services, Inc; Atlantic City Electric Company.

Description: Supplemental Information to Notification of Change in Status of PHI Holdings, Inc.

Filed Date: 08/16/2010.

Accession Number: 20100816-5166.

Comment Date: 5 p.m. Eastern Time on Tuesday, September 7, 2010.

Docket Numbers: ER10-2256-000.

Applicants: The Trustees of the University of Pennsylvania.

Description: Petition for acceptance of initial tariff, waivers and blanket authority of The Trustees of the University of Pennsylvania, a Pennsylvania non-profit corporation D/B/A University of Pennsylvania.

Filed Date: 08/17/2010.

Accession Number: 20100817-0201.

Comment Date: 5 p.m. Eastern Time on Tuesday, September 7, 2010.

Docket Numbers: ER10-2267-000.

Applicants: Entergy Arkansas, Inc.

Description: Entergy Arkansas, Inc. submits tariff filing per 35.13(a)(2)(iii): Unexecuted NITSA Between ESI and LEPA to be effective 9/1/2010.

Filed Date: 08/17/2010.

Accession Number: 20100817-5107.

Comment Date: 5 p.m. Eastern Time on Tuesday, September 7, 2010.

Docket Numbers: ER10-2268-000.

Applicants: FC Landfill Energy, LLC.

Description: FC Landfill Energy, LLC submits their Petition for Acceptance of Electric Tariff, Waivers and Blanket Authorization.

Filed Date: 08/17/2010.

Accession Number: 20100818-0202.

Comment Date: 5 p.m. Eastern Time on Tuesday, September 7, 2010.

Docket Numbers: ER10-2269-000.

Applicants: Carthage Energy, LLC.

Description: Carthage Energy, LLC submits tariff filing per 35.12: Carthage Energy Baseline eTariff Filing to be effective 8/18/2010.

Filed Date: 08/18/2010.

Accession Number: 20100818-5053.

Comment Date: 5 p.m. Eastern Time on Wednesday, September 8, 2010.

Docket Numbers: ER10-2270-000.

Applicants: Energetix, Inc.

Description: Energetix, Inc. submits tariff filing per 35.12: Energetix Baseline eTariff Filing to be effective 8/18/2010.

Filed Date: 08/18/2010.

Accession Number: 20100818-5055.

Comment Date: 5 p.m. Eastern Time on Wednesday, September 8, 2010.

Docket Numbers: ER10-2271-000.

Applicants: Hartford Steam Company.

Description: Hartford Steam Company submits tariff filing per 35.12: Hartford Steam Baseline eTariff Filing to be effective 8/18/2010.

Filed Date: 08/18/2010.

Accession Number: 20100818-5056.

Comment Date: 5 p.m. Eastern Time on Wednesday, September 8, 2010.

Docket Numbers: ER10-2272-000.

Applicants: NYSEG Solutions, Inc.

Description: NYSEG Solutions, Inc. submits tariff filing per 35.12: NYSEG Solutions Baseline eTariff Filing to be effective 8/18/2010.

Filed Date: 08/18/2010.

Accession Number: 20100818-5057.

Comment Date: 5 p.m. Eastern Time on Wednesday, September 8, 2010.

Docket Numbers: ER10-2273-000.

Applicants: PEI Power II, LLC.

Description: PEI Power II, LLC submits tariff filing per 35.12: PEI Power Baseline eTariff Filing to be effective 8/18/2010.

Filed Date: 08/18/2010.

Accession Number: 20100818-5059.

Comment Date: 5 p.m. Eastern Time on Wednesday, September 8, 2010.

Docket Numbers: ER10-2274-000.

Applicants: Arizona Public Service Company.

Description: Arizona Public Service Company submits tariff filing per 35.12: Arizona Public Service submits its Baseline WestConnect Regional Pricing Tariff to be effective 8/18/2010.

Filed Date: 08/18/2010.

Accession Number: 20100818-5075.

Comment Date: 5 p.m. Eastern Time on Wednesday, September 8, 2010.

Docket Numbers: ER10-2275-000.

Applicants: Arizona Public Service Company.

Description: Arizona Public Service Company submits tariff filing per 35.12: Arizona Public Service submits its Baseline Cost-Based Rate Tariff to be effective 8/18/2010.

Filed Date: 08/18/2010.

Accession Number: 20100818-5077.

Comment Date: 5 p.m. Eastern Time on Wednesday, September 8, 2010.

Docket Numbers: ER10-2276-000.

Applicants: Arizona Public Service Company.

Description: Arizona Public Service Company submits tariff filing per 35.12: Arizona Public Service Company submits its Baseline Market-Based Rate Tariff to be effective 8/18/2010.

Filed Date: 08/18/2010.

Accession Number: 20100818-5078.

Comment Date: 5 p.m. Eastern Time on Wednesday, September 8, 2010.

Docket Numbers: ER10-2277-000.

Applicants: James River Cogeneration Company.

Description: James River Cogeneration Company submits tariff filing per 35.12: James River Cogeneration MBR Tariff to be effective 8/18/2010.

Filed Date: 08/18/2010.

Accession Number: 20100818-5079.

Comment Date: 5 p.m. Eastern Time on Wednesday, September 8, 2010.

Docket Numbers: ER10-2278-000.

Applicants: Cogentrix Virginia Leasing Corporation.

Description: Cogentrix Virginia Leasing Corporation submits tariff filing per 35.12: Congentrix Virginia Leasing MBR Tariff to be effective 8/18/2010.

Filed Date: 08/18/2010.

Accession Number: 20100818-5088.

Comment Date: 5 p.m. Eastern Time on Wednesday, September 8, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-21230 Filed 8-25-10; 8:45 am]

BILLING CODE 6717-01-P